NUCLEAR REGULATORY COMMISSION

Advisory Committee on Nuclear Waste; Notice of Meeting

The Advisory Committee on Nuclear Waste (ACNW) will hold its 179th meeting on May 16-17, 2007, Room T-2B3, 11545 Rockville Pike, Rockville, Maryland.

The schedule for this meeting is as follows:

Wednesday, May 16, 2007

8:30 a.m.-8:35 a.m.: Opening Remarks by the ACNW Chairman (Open)—The ACNW Chairman will make opening remarks regarding the conduct of today's sessions.

8:35 a.m.-10:15 a.m.: AREVA Spent Nuclear Fuel Recycle Facilities (Open)—A representative from AREVA will present an overview of their recycle facilities, including new technology developments, operating experience, effluents, waste streams, and decommissioning activities.

10:30 a.m.-11:30 a.m.: ACNW White Paper on Volcanism (Open)—Discussion of final draft of the White Paper on Igneous Activity at Yucca Mountain. Paper to be sent to the Commission in June.

11:30 a.m.-12 p.m.: ACNW Meeting with NRC Commissioner Jeffrey S. Merrifield (Open)—Commissioner Merrifield will address the Committee on current topics and issues of common interest.

1 p.m.-4 p.m.: Yucca Mountain Preclosure Repository Design: NRC Staff Review Readiness and Views on the Issues (Open)—NRC staff representatives from the Office of Nuclear Materials Safety and Safeguards will brief the Committee on their readiness to review a geologic repository operations area design submitted by the U.S. Department of Energy (DOE) as part of any 10 CFR part 63 License Application. Included in this briefing will be some discussion of the staff's integrated preclosure safety assessment review capability as well as any outstanding preclosure design issues. There may be a 15 minute break at some point during this activity.

4 p.m.-6 p.m.: NCRP Study on Radiation Exposure of U.S. Population (Open)—A representative of the National Council on Radiation Protection and Measurements (NCRP) will brief the Committee about the status of studies being conducted to develop a new NCRP report on “Ionizing Radiation Exposure of the United States Population.” This report is being prepared as an update to the 1987 NCRP Report No. 93.

Thursday, May 17, 2007

10 a.m.-10:05 a.m.: Opening Remarks by the ACNW Chairman (Open)—The ACNW Chairman will make opening remarks regarding the conduct of today's sessions.

10:05 a.m.-11 a.m.: Proposed Revision to Standard Review Plan Chapter 11.5 for New Reactor Licensing (Open)—NRC Staff representative from the Office of New Reactors will brief the Committee on the proposed revision to NUREG-0800, “Standard Review Plan for the Review of Safety Analysis Reports for Nuclear Power Plants,” Chapter 11.5, “Process and Effluent Radiological Monitoring Instrumentation and Sampling Systems.”

11 a.m.-11:30 a.m.: Briefing on Interim Staff Guidance (ISG)-04, “Preclosure Safety Analysis—Human Reliability Analysis” (Open)—NRC staff from the Division of High-Level Waste Repository Safety (HLWRS) will brief the Committee on ISG-04, “Preclosure Safety Analysis—Human Reliability Analysis” for the staff's review of human reliability evaluations that will be included in the preclosure safety analysis (PCSA) for the proposed Yucca Mountain Repository site.

1 p.m.-2 p.m.: Briefing on Long-Term Research Activities (Open)—NRC staff representatives from the Office of Nuclear Regulatory Research (RES) will brief the Committee on NRC's long-term research activities which support possible emergence of either new regulatory initiatives, or new technologies that could be applied in nuclear facilities in coming years.

2 p.m.-3 p.m.: ACNW White Paper on Volcanism (Open)—Continued discussion of final draft of the White Paper on Igneous Activity at Yucca Mountain. Paper to be sent to the Commission in June.

3:15 p.m.-4 p.m.: Discussion of ACNW Letter Reports (Open)—The Committee will discuss potential and proposed ACNW letter reports.

4 p.m.-5:30 p.m.: Miscellaneous (Open)—The Committee will discuss matters related to the conduct of ACNW activities and specific issues that were not completed during previous meetings, as time and availability of information permit. Discussions may include content of future letters and scope of future Committee Meetings.

Procedures for the conduct of and participation in ACNW meetings were published in the Federal Register on October 12, 2006 (71 FR 60196). In accordance with these procedures, oral or written statements may be presented by members of the public. Electronic recordings will be permitted only during those portions of the meeting that are open to the public. Persons desiring to make oral statements should notify Mr. Antonio F. Dias (Telephone 301-415-6805), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Dias as to their particular needs.

Further information regarding topics to be discussed, whether the meeting has been canceled or rescheduled, the Chairman's ruling on requests for the opportunity to present oral statements and the time allotted, therefore can be obtained by contacting Mr. Dias.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact

Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: April 20, 2007.
Andrew L. Bates,
Advisory Committee Management Officer.

[FR Doc. E7-8032 Filed 4-25-07; 8:45 am]

BILLING CODE 7590-01-P